DEPARTMENT OF LABOR

Employment and Training Administration

[TA-W-40,025]

The Aquaterra Biochemical Corp. of America, Retail Products Group Manufacturing, Retail Products Group, the Bramton Company, Dallas, TX; Amended Certification Regarding Eligibility To Apply for Worker Adjustment Assistance

In accordance with section 223 of the Trade Act of 1974 (19 U.S.C. 2273) the Department of Labor issued a Certification of Eligibility to Apply for Worker Adjustment Assistance on September 27, 2001, applicable to workers of The Bramton Co., Retail Products Group, Dallas, Texas. The notice was published in the Federal Register on October 11, 2001 (66 FR 51973).

At the request of the State agency, the Department reviewed the certification for workers of the subject firm. New findings show that the Department incorrectly identified the subject firm name. The Department is amending the certification determination to correctly identify the subject firm title name to read The Aquaterra Biochemical Corp. of America, Retail Products Group Manufacturing, Retail Products Group, The Bramton Co.

The amended notice applicable to TA-W-40,025 is hereby issued as follows:

All workers of The Aquaterra Biochemical Corp. of America, Retail Products Group Manufacturing, Retail Products Group, The Bramton Co., Dallas, Texas, engaged in the production of sewing cloth pet products, who became totally or partially separated from employment on or after August 20, 2000, through September 27, 2003, are eligible to apply for adjustment assistance under Section 223 of the Trade Act of 1974.

Signed at Washington, DC this 30th day of November, 2001.
Linda G. Poole,
Certifying Officer, Division of Trade Adjustment Assistance.

[FR Doc. 01-31152 Filed 12-17-01; 8:45 am]

BILLING CODE 4510-30-M